DEPARTMENT OF TRANSPORTATION

Pipeline and Hazardous Materials Safety Administration

Office of Hazardous Materials Safety; Notice of Applications for Modification of Exemption

AGENCY: Pipeline and Hazardous Materials Safety Administration, DOT.

ACTION: List of applications for modification of exemption.

SUMMARY: In accordance with the procedures governing the application for, and the processing of, exemptions from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of exemptions (e.g. to provide for additional hazardous materials, packaging design changes, additional mode of transportation, etc.) are described in footnotes to the application number. Application numbers with the suffix “M” denote a modification request. There applications have been separated from the new application for exemption to facilitate processing.

DATES: Comments must be received on or before July 6, 2005.

Address Comments To: Record Center, Pipeline and Hazardous Materials Safety Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street, SW., Washington DC or at http://dms.dot.gov.

This notice of receipt of applications for modification of exemption is published in accordance with Part 107 of the Federal hazardous materials transportation law (49 U.S.C. 5117(b); 49 CFR 1.53(b)).

Issued in Washington, DC, on June 15, 2005.
R. Ryan Posten,
Exemptions Program Officer, Office of Hazardous Materials Exemptions & Approvals.

Modification Exemptions
Application No. | Docket No. | Applicant | Regulation(s) affected | Modification of exemption | Nature of exemption thereof
11321-M |  | E.I. DuPont, Wilmington, DE | 49 CFR 172.111, Column 7, Special Provisions B14, T38 | 11321 | To modify the exemption to authorized the use of UN specification portable tanks for the transportation of a Class 8 material.
11606-M |  | Safety-Kleen Systems, Inc., Humble, TX | 49 CFR 173.28(b)(2) | 11606 | To modify the exemption to authorize the transportation of an additional Class 3 material in UN Standard 1A1, 1A2 and non-DOT specification steel drums.
11770-M |  | Gas Cylinder Technologies, Inc., Tecumseh, ON | 49 CFR 173.302a; 173.304a | 11770 | To modify the exemption to authorize maximum internal capacity of 65 cubic inches for the non-DOT specification cylinders and eliminating the 2.5 inch maximum outside diameter requirement.
11911-M | RSPA-97-2735 | Transfer Flow, Inc., Chico, CA | 49 CFR 178.700 thru 178.819 | 11911 | To modify the exemption to authorize the use of a new refueling tank design that is not required to be dismantled during transportation of Class 3 materials.
12412-M | RSPA-00-6827 | Los Angeles Chemical Company, South Gate, CA | 49 CFR 177.834(h); 172.203(a); 172.302(c) | 12412 | To modify the exemption to allow the transportation and unloading of certain UN IBC and DOT Specification portable tanks containing incompatible materials on the same motor vehicle.
13616-M |  | U.S. Department of Commerce, Anchorage, AK | 49 CFR 172.101, Column 9B | 13616 | To reissue the exemption originally issued on an emergency basis for the transportation of a Division 2.2 material in DOT Specification cylinders that are manifolded together and exceed the quantity limitations for cargo aircraft only.
14170-M | PHMSA-05-20714 | General Dynamics Armament & Technical Products, Lincoln, NE | 49 CFR 173.301 and 173.306 | 14170 | To reissue the exemption originally issued on an emergency basis for the transportation of certain compressed gases in non-DOT specification fiberglass reinforced plastic cylinders.

[FR Doc. 05-12131 Filed 6-20-05; 8:45 am]

BILLING CODE 4909-60-M